DEPARTMENT OF THE INTERIOR

Central Utah Project Completion Act

AGENCIES: Department of the Interior, Office of the Assistant Secretary—Water and Science.

ACTION: Notice of Availability, Draft Environmental Assessment (EA), East Juab Water Efficiency Project—Phase II, Juab County, Utah.

SUMMARY: Pursuant to Section 102(2)(c) of the National Environmental Policy Act of 1969, as amended, the Department of the Interior and the Central Utah Water Conservancy District are evaluating the impacts of the proposed project.

This project anticipates the rehabilitation of several existing wells, installation of additional booster pump capability, extension of associated distribution system pipelines and overhead power lines, and development and implementation of a supervisory control and data acquisition (SCADA) system.

Also anticipated is the construction of a bypass pipeline along a segment of existing irrigation canal to reduce loss of water during the late irrigation season period of water shortage, and perforated infiltration pipelines to recharge water to the groundwater basin at other times.

These actions are being taken in order to more efficiently utilize existing ground-water supplies in conjunction with existing surface water supplies.

The Bonneville Unit of the Central Utah Project was authorized to develop central Utah's water resources. Both the 1987 Final Supplement to the Final Environmental Impact Statement for the Municipal and Industrial System, Bonneville Unit, Central Utah Project (FEIS) and the 2004 Supplement to the 1988 Definite Plan Report for the Bonneville Unit (DPR) anticipated additional water development in East Juab County. Under the authority of section 202 of the Central Utah Project Completion Act (Pub. L. 102-575), the Secretary of the Interior oversees Bonneville Unit water development, and specifically has authority to provide cost share associated with Conjunctive Use investigations and projects.

FOR FURTHER INFORMATION CONTACT: Additional information may be obtained by contacting Mr. Lee Baxter, Central Utah Project Completion Act Office, 302 East 1860 South, Provo, Utah 84606, by calling (801) 379-1174, or E-mail at lbaxter@uc.usbr.gov.

Copies of the draft EA are available for inspection at:

Central Utah Water Conservancy District, 355 West University Parkway, Orem, Utah 84058-7303.

Department of the Interior, Central Utah Project Completion Act Office, 302 East 1860 South, Provo, Utah 84606.

In addition, the document is available at http://www.cuwcd.com.

Dated: November 17, 2008.
Reed R. Murray,
Program Director, Central Utah Project Completion Act, Department of the Interior.

[FR Doc. E8-28555 Filed 12-1-08; 8:45 am]

BILLING CODE 4310-RK-P